DEPARTMENT OF VETERANS AFFAIRS

Advisory Committee on Cemeteries and Memorials, Notice of Meeting

The Department of Veterans Affairs (VA) gives notice under the Federal Advisory Committee Act, 5 U.S.C. Ch. 10, that the annual meeting of the Advisory Committee on Cemeteries and Memorials will be held April 2-3, 2025. The meeting sessions will begin and end as follows:

Date(s) | Time(s) | Location(s) | Open to the public
April 2, 2025 | 8:00 a.m. to 4:30 p.m. Mountain Standard Time (MST) | Southern Arizona VA Healthcare System, 3601 S 6th Avenue, Conference Rooms A&B, Tucson, AZ 85723 | Yes.
April 3, 2025 | 9:00 a.m. to 11:20 a.m. (MST) | Southern Arizona VA Healthcare System, 3601 S 6th Avenue, Conference Rooms A&B, Tucson, AZ 85723 | Yes.
April 3, 2025 | 1:15 p.m.-2:00 p.m. (MST) | Monte Calvario Veterans Cemetery, 5149 W Omokol, Tucson, AZ 85757 | Yes.
April 3, 2025 | 3:00 p.m.-4:00 p.m. (MST) | Arizona Veterans Memorial Cemetery at Marana, 15950 N Luckett Road, Marana, AZ 85653 | Yes.

The meeting sessions are open to the public.

The purpose of the Committee is to advise the Secretary of Veterans Affairs on the administration of national cemeteries, soldiers' lots and plots, the selection of new national cemetery sites, the erection of appropriate memorials, and the adequacy of Federal burial benefits. The Committee makes recommendations to the Secretary regarding such activities.

On Wednesday, April 2, 2025, the Committee will convene an open session from 8:00 a.m. to 4:30 p.m. MST. The agenda will include remarks by National Cemetery leadership, and briefings from the Office of Cemetery Operations and Field Programs, Office of Engagement and Memorial Innovation, National Training Center, and National Cemetery Scheduling Office Pre-Need Eligibility Program. The Committee will conduct an open discussion regarding committee matters.

On Thursday, April 3, 2025, the Committee will convene an open session from 9:00 a.m. to 11:20 a.m. MST. The agenda will include committee discussion, and review of recommendations. Additionally, time will be allotted for the public to provide comments starting at 10:45 a.m. MST and ending no later than 11:15 a.m. MST. The comment period may end sooner, if there are no comments presented or they are exhausted before the end time. Individuals interested in providing comments during the public comment period are allowed no more than three minutes for their statements. The Committee will reconvene in an open session from 12:30 p.m. to 4:00 p.m. MST to tour Monte Calvario Veterans Cemetery and Arizona Veterans Memorial Cemetery at Marana. Transportation will not be provided for the public.

Any member of the public seeking additional information or that wish to attend the meeting in person should contact Ms. Faith Hopkins, Designated Federal Officer, at 202-603-4499. Please leave a voice mail message. The Committee will also accept written comments. Comments may be transmitted electronically to the Committee at faith.hopkins@va.gov. In the public's communications with the Committee, the writers must identify themselves and state the organizations, associations, or persons they represent.

Any member of the public who wishes to attend the meeting virtually may use the following Cisco Webex Meeting Link:

Join On Your Computer or Mobile App: https://veteransaffairs.webex.com/veteransaffairs/j.php?MTID=m399bd052b7886a429f618b73b9568149.

Meeting number: 2825 525 9552.

Password: Y2aYJfkY?58.

Join by phone: 404-397-1596.

Access code: 2825 525 9552.

Dated: March 4, 2025.
Jelessa M. Burney,
Federal Advisory Committee Management Officer.

[FR Doc. 2025-03724 Filed 3-6-25; 8:45 am]

BILLING CODE 8320-01-P